DEPARTMENT OF COMMERCE

National Oceanic and Atmospheric Administration

[RTID 0648-XA540]

Pacific Fishery Management Council; Public Meeting

AGENCY: National Marine Fisheries Service (NMFS), National Oceanic and Atmospheric Administration (NOAA), Commerce.

ACTION: Notice of a public meeting.

SUMMARY: The Groundfish Subcommittee of the Pacific Fishery Management Council's (Pacific Council's) Scientific and Statistical Committee (SSC) will hold an online meeting to review proposed length-based assessment methods. The meeting is open to the public.

DATES: The SSC Groundfish Subcommittee's online meeting will be held Friday, October 23, 2020, beginning at 2 p.m. Pacific Daylight Time and continuing until 4 p.m. or until business for the day has been completed.

ADDRESSES: The SSC Groundfish Subcommittee meeting will be an online meeting. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Groundfish Subcommittee meeting is to review proposed length-based assessment methods. This is a follow-up review of stock synthesis with catch and length (SS-CL) and SS-CL with indices (SS-CL-Index) methods proposed by the NMFS Northwest Fisheries Science Center that occurred on May 12-14, 2020. The SSC recommended this review (see https://www.pcouncil.org/documents/2020/09/agenda-item-d-4-a-supplemental-ssc-report-1-2.pdf/) at the November 2020 Pacific Council meeting to review several short-term tasks, detailed in section 6 of the May 12-14 Methods Review Panel report (see https://www.pcouncil.org/documents/2020/08/d-4-attachment-2-assessment-methodology-review-of-length-based-assessment-methods.pdf/).

No management actions will be decided by the SSC Groundfish Subcommittee. The SSC Groundfish Subcommittee members' role will be development of recommendations and reports for consideration by the SSC and Pacific Council at the virtual November meeting of the Pacific Council.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

This meeting is physically accessible to people with disabilities. Requests for sign language interpretation or other auxiliary aids should be directed to Mr. Kris Kleinschmidt, (503) 820-2412, at least 10 days prior to the meeting date.

Authority: 16 U.S.C. 1801 et seq.

Dated: October 2, 2020.
Diane M. DeJames-Daly,
Acting Deputy Director, Office of Sustainable Fisheries, National Marine Fisheries Service.

[FR Doc. 2020-22164 Filed 10-6-20; 8:45 am]

BILLING CODE 3510-22-P